DEPARTMENT OF HOUSING AND URBAN DEVELOPMENT

[Docket No. FR-4497-N-07]

RIN 2577-AC08

Public Housing Assessment System (PHAS) Notice of PHAS Transition Assistance for Certain PHAs

AGENCY: Office of the Assistant Secretary for Public and Indian Housing, and Office of the Director of the Real Estate Assessment Center, HUD.

ACTION: Notice.

SUMMARY: This document notifies public housing agencies (PHAs) with fiscal years ending March 31, 2000, and June 30, 2000, that they may conduct physical inspections of their units in accordance with HUD's Housing Quality Standards. Additionally, this notice advises that HUD extends advisory scores to PHAs with fiscal years ending March 31, 2000. Therefore, PHAS scores will be issued for PHAs with fiscal years ending on and after June 30, 2000.

FOR FURTHER INFORMATION CONTACT: For further information contact the Real Estate Assessment Center (REAC), Attention: Wanda Funk, U.S. Department of Housing and Urban Development, 1280 Maryland Avenue, SW, Suite 800, Washington DC, 20024; telephone Technical Assistance Center at (888)-245-4860 (this is a toll free number). Persons with hearing or speech impairments may access that number via TTY by calling the Federal Information Relay Service at (800) 877-8339. Additional information is available from the REAC Internet Site, http://www.hud.gov/reac.

SUPPLEMENTARY INFORMATION:

I. Background

On January 11, 2000 (65 FR 1712), HUD issued a final rule that made certain amendments to the Public Housing Assessment System (PHAS) regulations. The PHAS was implemented by final regulations published on September 1, 1998. The amendments published to the PHAS regulations on January 11, 2000, followed a proposed rule published on June 22, 1999, and were prompted by both statutory and administrative changes to the PHAS.

II. Additional Transition Assistance to Certain PHAs

Following publication of the January 11, 2000, final rule, HUD was asked to provide further transition assistance to PHAs with fiscal years ending March 31, 2000, and June 30, 2000, by allowing these PHAs to inspect occupied units in accordance with HUD's Housing Quality Standards (HQS). Under sub-indicator #3 of PHAS Indicator #3, Management Operations, PHAs are assessed on the percentage of units and systems that a PHA inspects on an annual basis in order to determine short-term maintenance needs and long-term Capital Fund needs. PHAs must inspect these units in accordance with HUD's Uniform Physical Condition Standards. In a notice published December 16, 1999 (64 FR 70274), HUD advised that PHAs with fiscal years ending September 30, 1999, and December 31, 1999, could inspect their units in accordance with HQS because HUD only recently released its physical inspection and training guidebook. HUD will extend the transition assistance provided in its December 16, 1999, notice to PHAs with fiscal years ending March 31, 2000, and June 30, 2000.

Additionally, HUD was requested to allow PHAs with fiscal years ending March 31, 2000, to receive PHAS advisory scores, given the date on which the PHAS Amendments final rule was issued—January 11, 2000. HUD agrees to issue PHAS advisory scores to PHAs with fiscal years ending March 31, 2000. PHAS scores will be issued to PHAs with fiscal years ending on or after June 30, 2000. As the October 21, 1999, PHAS Transition Notice clarified, however, HUD is required by statute to assess PHAs performance. PHAs with fiscal years ending March 31, 2000, will receive an assessment score solely on the basis of HUD's assessment of the PHA's management operations in accordance with 24 CFR part 902, subpart D of the PHAS regulations (PHAS Indicator #3, Management Operations), as amended by the January 11, 2000, final rule, and corrected by the correction document published elsewhere in this edition of the Federal Register.

III. PHAS Technical Correction

Elsewhere in this edition of the Federal Register, HUD is publishing a technical correction to the January 11, 2000 PHAS final rule.

Dated: March 30, 2000.
Harold Lucas,
Assistant Secretary for Public and Indian Housing.
Donald J. LaVoy,
Director, Real Estate Assessment Center.

[FR Doc. 00-14161 Filed 6-5-00; 8:45 am]

BILLING CODE 4210-33-P